DEPARTMENT OF THE INTERIOR

National Indian Gaming Commission

Fee Rate and Fingerprint Fees

AGENCY: National Indian Gaming Commission, Interior.

ACTION: Notice.

SUMMARY: Notice is hereby given that the National Indian Gaming Commission has adopted its annual fee rates of 0.00% for tier 1 and 0.08% (.0008) for tier 2. These rates shall apply to all assessable gross revenues from each gaming operation under the jurisdiction of the Commission. If a tribe has a certificate of self-regulation, the fee rate on Class II revenues shall be 0.04% (.0004) which is one-half of the annual fee rate. The annual fee rates being adopted here are effective November 1, 2021 and will remain in effect until new rates are adopted. The National Indian Gaming Commission has also adopted its fingerprint processing fee of $35 per card which represents a decrease of $10 per card from the current fee of $45. The fingerprint processing fee being adopted here is effective November 1, 2021 and will remain in effect until the Commission adopts a new rate.

FOR FURTHER INFORMATION CONTACT: Yvonne Lee, National Indian Gaming Commission, 1849 C Street NW, Mail Stop #1621, Washington, DC 20240; telephone (202) 632-7003; fax (202) 632-7066.

SUPPLEMENTARY INFORMATION: The Indian Gaming Regulatory Act (IGRA) established the National Indian Gaming Commission, which is charged with regulating gaming on Indian lands.

Commission regulations (25 CFR 514) provide for a system of fee assessment and payment that is self-administered by gaming operations. Pursuant to those regulations, the Commission is required to adopt and communicate assessment rates and the gaming operations are required to apply those rates to their revenues, compute the fees to be paid, report the revenues, and remit the fees to the Commission. All gaming operations within the jurisdiction of the Commission are required to self-administer the provisions of these regulations, and report and pay any fees that are due to the Commission. Based on the Commission's fee calculation structure, FY20's gaming revenue will be the basis for the tribes to calculate their FY22 quarterly fee payment to the NIGC. As a result of the COVID-19 pandemic impact on FY20's gaming revenue, raising the fee rate to 0.08% is necessary to ensure the continuous funding of the agency's operations throughout FY22.

Pursuant to 25 CFR 514, the Commission must also review annually the costs involved in processing fingerprint cards and set a fee based on fees charged by the Federal Bureau of Investigation and costs incurred by the Commission. Commission costs include Commission personnel, supplies, equipment costs, and postage to submit the results to the requesting tribe. The fingerprint processing fee decrease this year is a result of the one-time capital investment on updating the NIGC's fingerprint system and network for which the fund has been committed in FY21 and the system is currently in its design stage. FY22 costs allocated for processing fingerprint continue to reflect the Commission's commitment on taking additional measures necessary to ensure compliance with Federal Bureau of Investigation (FBI) requirements including funding compliance efforts by hiring new Criminal Justice Information Services (CJIS) Auditors/Officers in FY22 to meet FBI CJIS requirements and to remediate findings from an FBI CJIS audit. Taking these necessary measures are not only required but critical to ensure the NIGC and participating tribes can continue to utilize the FBI's criminal history report information (CHRI) to determine a key employee or primary management official's eligibility for a gaming license.

Dated: November 1, 2021.
E. Sequoyah Simermeyer,
Chairman.
Dated: November 1, 2021.
Jeannie Hovland,
Vice Chair.

[FR Doc. 2021-24697 Filed 11-10-21; 8:45 am]

BILLING CODE 7565-01-P